DEPARTMENT OF TRANSPORTATION

Federal Aviation Administration

RTCA Special Committee 195: Flight Information Services Communications (FISC)

AGENCY: Federal Aviation Administration (FAA), DOT.

ACTION: Notice of RTCA Special Committee 195 meeting.

SUMMARY: The FAA is issuing this notice to advise the public of a meeting of RTCA Special Committee 195: Flight Information Services Communications (FISC).

DATES: The meeting will be held May 29-30, 2002, starting at 8:30 am.

ADDRESSES: The meeting will be held at NCAR, Foothills Laboratory Building 2, Room 1002, 3450 Mitchell Lane, Boulder, Colorado, 80301.

FOR FURTHER INFORMATION CONTACT: (1) RTCA Secretariat, 1828 L. Street, NW., Washington, DC, 20036; telephone (202) 833-9339; fax (202) 833-9434; web site http://www.rtca.org; (2) in Boulder, telephone (303) 497-8422; web site www.rap.ucar.edu.

SUPPLEMENTARY INFORMATION: Pursuant to section 10(a)(2) of the Federal Advisory Committee Act (Pub. L. 92-463, 5 U.S.C., Appendix 2), notice is hereby given for a Special Committee 195 meeting. The agenda will include:

• May 29:

• Working Group 1

• Progress on Change 1 to DO-267, Minimum, Aviation System Performance Standards (MASPS) for Flight Information Services-Broadcast (FIS-B) Data Link

• Opening Plenary Session (Welcome and Introductory Remarks, Approval of Agenda, Approval of Minutes, Review of Action Items)

• Tour of NCAR Laboratories

• Discussion of DO-267 Change 1 Schedule and FIS Product Roadmap

• Discussion of FIS Registry of Products

• Discussion of Aerodrome Product Definition

• Report from Working Group 1

• May 30

• Continued Plenary Session

• Report on the Use of DO-252

• Work on Change 1 to DO-267

• Closing Plenary Session (Review Action Items, Discussion of Future Workplan, Other Business, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 29, 2002.
Jane P. Caldwell,
Program Director, System Engineering Resource Management.

[FR Doc. 02-11057 Filed 5-1-02; 8:45 am]

BILLING CODE 4910-13-M